DEPARTMENT OF HEALTH AND HUMAN SERVICES

Centers for Disease Control and Prevention

Request for Nominations of Potential Reviewers To Serve on the Disease, Disability, and Injury Prevention and Control Special Emphasis Panel

ACTION: Notice.

SUMMARY: The Centers for Disease Control and Prevention (CDC) is seeking nominations for possible membership on the Disease, Disability, and Injury Prevention and Control Special Emphasis Panel (SEP) in the National Institute for Occupational Safety and Health (NIOSH), World Trade Center Health Program (WTCHP). The Disease, Disability, and Injury Prevention and Control Special Emphasis Panel provides advice and guidance to the Secretary, Department of Health and Human Services (HHS); the Director, Centers for Disease Control and Prevention (CDC), and the Administrator, Agency for Toxic Substances and Disease Registry (ATSDR) regarding the concept review, scientific and technical merit of grant and cooperative agreement assistance applications, and contract proposals relating to the causes, prevention, and control of diseases, disabilities, injuries, and impairments of public health significance; exposure to hazardous substances in the environment; health promotion and education; and other related activities that promote health and well-being. Members and Chairs shall be selected by the Secretary, HHS, or other official to whom the authority has been delegated, on an “as needed” basis in response to specific applications being reviewed with expertise to provide advice. Members will be selected from authorities in the various fields of prevention and control of diseases, disabilities, and injuries. Members of other chartered HHS advisory committees may serve on the panel if their expertise is required. Consideration is given to professional training and background, points of view represented, and upcoming applications to be reviewed by the committee.

DATES: Nominations for membership on the WTCHP SEPs must be received no later than December 15, 2017. Packages received after this time will not be considered for the current membership cycle; but will be kept on file for future cycles. The membership cycles are listed under the Advisory Council Review on the Funding Opportunity Announcement, which is available at: https://grants.nih.gov/grants/guide/pa-files/PAR-16-098.html.

ADDRESSES: All nominations should be mailed to Centers for Disease Control and Prevention, 1600 Clifton Road NE., Mailstop E-74, Atlanta, Georgia 30329, emailed to wtcscience@cdc.gov, or faxed to (404) 471-2616.

FOR FURTHER INFORMATION CONTACT: Mia Wallace, Management Analyst, CDC/NIOSH/WTCHP, 1600 Clifton Road NE., Mailstop E-74, Atlanta, Georgia 30329, Telephone: (404) 498-2253; Email: mwallace@cdc.gov.

SUPPLEMENTARY INFORMATION: The U.S. Department of Health and Human Services policy stipulates that committee membership be balanced in terms of points of view represented and the committee's function. Appointments shall be made without discrimination on the basis of age, race, ethnicity, gender, sexual orientation, gender identity, HIV status, disability, and cultural, religious, or socioeconomic status. Nominees must be U.S. citizens appointed to serve on a CDC SEP and can be full-time employees of the U.S. Government. Current participation on CDC federal workgroups or prior experience serving on another federal advisory committee does not disqualify a reviewer. However, HHS policy is to avoid excessive individual service on advisory committees and multiple committee memberships. Reviewers appointed to the SEP, CDC are not considered Special Government Employees, and will not be required to file financial disclosure reports.

Nominees interested in serving as a member on a WTCHP Peer Review Panel should submit the following items:

• Current curriculum vitae, including complete contact information (name, affiliation, mailing address, telephone number, and email address);

• A statement summarizing the nominee's Areas of Expertise (include unique experiences, skills and knowledge the individual will bring to the WTCHP), Ethnic/Racial Minority Status, and Citizenship; and

• A statement confirming that the nominee is not a registered federal lobbyist.

Background: The WTCHP is administered by NIOSH. The James Zadroga 9/11 Health and Compensation Act of 2010, Public Law 111-347 (hereafter referred to as “the Zadroga Act”) was signed by President Obama on January 2, 2011, and was re-authorized on December 18, 2015. The Zadroga Act continues monitoring and treatment activities and requires the establishment (under Subtitle C) of a research program on health conditions resulting from the September 11, 2001, terrorist attacks. For additional information on the program please refer to: http://www.cdc.gov/wtc.

The Zadroga Act lists the following broad research areas:

• Physical and mental health conditions that may be related to the September 11, 2001, terrorist attacks;

• Diagnosing WTC-related health conditions for which there has been diagnostic uncertainty; and

• Treating WTC-related health conditions for which there has been treatment uncertainty.

Research mentioned in the Zadroga Act includes epidemiologic and other research studies on WTC-related health conditions or emerging conditions among (1) enrolled WTC responders and certified-eligible WTC survivors under treatment; (2) sampled populations outside the NYC disaster area, in Manhattan (as far north as 14th Street) and in Brooklyn; and (3) control populations, to identify potential for long-term adverse health effects in less exposed populations.

Major areas of interest include, but are not limited to, the following:

Linking 9/11 exposure to health conditions:

• Cancers, multisystem or autoimmune, cardiovascular and neurologic disease (including age at diagnosis);

• Characterizing patterns of illness (age, gender, comorbidities, etc.); and

• Characterizing alterations in health and development for those exposed to 9/11 as children.

Characterizing established WTC-related diseases and comorbidities:

• Identifying phenotypes, biomarkers, epigenetics; and

• Care models that address complex co-morbidities and other modifiable factors.

• Health services research and value-based care that addresses disaster-related injury and illness for chronic disease.

(Note: Health services research examines how people get access to health care, how much care costs, and what happens to patients as a result of this care. The main goals of health services research are to identify the most effective ways to organize, manage, finance, and deliver high quality care; reduce medical errors; and improve patient safety (Agency for Healthcare Research and Quality, 2002).

Characterizing the work-ability and occupational outcomes for those impacted by 9/11.

Lessons learned in recovery:

• Identifying and operationalizing key elements of psychological resilience for disaster responders; and

• Establishing comparison groups for disaster-related research for key health indicators for first responders.

(Note: Concepts of psychological resilience vary across disciplines with investigations addressing various outcomes ranging from reported levels of stress, burnout, compassion fatigue, and general indicators of well-being. Also proposed are interpersonal, intrapersonal and environmental factors that suggest a more stable and enduring personality trait impacting self-regulation.)

Relevant diseases or conditions include, but are not limited to, the following:

• Respiratory diseases

• Cancer (including detection/diagnosis of pre-malignant changes)

• Cardiovascular Disease

• Psychological resilience and well-being

• Persistent psychiatric conditions such as posttraumatic stress, anxiety and depressive disorders

• Cognitive changes

• Aging—the impacts of aging on those impacted by 9/11 illness and injury

• Neurological Diseases

• Aerodigestive health

• Multisystem or auto-immune diseases

• Gastro-esophageal disorders

• Gastrointestinal health

• Chronic musculoskeletal conditions resulting from acute traumatic injury and overuse disorders

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2017-22436 Filed 10-16-17; 8:45 am]

BILLING CODE 4163-18-P